DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received within 60 days of this notice.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Ryan White HIV/AIDS Program: Program Allocation and Expenditure Forms.

OMB No. 0915-0318—Extension.

Abstract: HRSA's HIV/AIDS Bureau (HAB) administers the Ryan White HIV/AIDS Program authorized under Title XXVI of the Public Health Service Act as amended by the Ryan White HIV/AIDS Treatment Extension Act of 2009. The purpose of this legislation is to provide emergency assistance to localities that are disproportionately affected by the human immunodeficiency virus (HIV) epidemic and to make financial assistance available for the development, organization, coordination, and operation of more effective and cost-efficient systems for the delivery of essential services to persons with HIV disease. It also provides grants to states for the delivery of services to HIV positive individuals and their families. Under the law, grantees receiving funds under Parts A, B, and C must spend at least 75 percent of funds on “core medical services.” The proposed forms will collect information from grantees documenting the use of funds to ensure compliance with the Act.

Need and Proposed Use of the Information: The Ryan White HIV/AIDS Program Allocation and Expenditure Reports enable the Health Resources and Services Administration's HIV/AIDS Bureau to track spending requirements for each program. Grantees funded under Parts A, B, C, and D of the Ryan White HIV/AIDS Program (codified under Title XXVI of the Public Health Service Act) are required to report financial data to HRSA at the beginning and end of their grant cycle. All Parts of the Ryan White HIV/AIDS Program specify HRSA's responsibilities in the administration of grant funds. Accurate allocation and expenditure records of the grantees receiving Ryan White HIV/AIDS Program funding are critical to the implementation of the legislation and thus are necessary for HRSA to fulfill its responsibilities.

The forms require grantees to report on how funds are allocated and spent on core and non-core services, and on various program components, such as administration, planning and evaluation, and quality management. The two forms are identical in the types of information they collect. However, the allocation report provides data on how grantees allocate funding at the beginning of their grant cycle and the second report or the expenditure reports track actual expenditures (including carryover dollars) at the end of their grant cycle.

The primary purposes of these forms are to: (1) Provide information on the number of grant dollars spent on various services and program components; and (2) oversee compliance with the intent of congressional appropriations in a timely manner. In addition to meeting the goal of accountability to Congress, clients, advocacy groups, and the general public, information collected on these reports is critical for HRSA, state and local grantees, and individual providers to evaluate the effectiveness of these programs.

Likely Respondents: All Ryan White HIV/AIDS Program Grantees (Part A, Part B, Part C, and Part D)

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Program under which grantee is funded | Number of grantee respondents | Responses per grantee | Total responses | Average burden per response (in hours) | Total burden hours
Part A | 56 | 2 | 112 | 8 | 896
Part B | 59 | 2 | 118 | 12 | 1,416
Part A MAI | 56 | 2 | 112 | 4 | 448
Part B MAI | 59 | 2 | 118 | 4 | 472
Part C | 361 | 2 | 722 | 7 | 5,054
Part D | 90 | 2 | 180 | 7 | 1,260
Total | 681 |  | 1,362 |  | 9,546

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: December 5, 2013.
Bahar Niakan,
Director, Division of Policy and Information Coordination.

[FR Doc. 2013-29511 Filed 12-10-13; 8:45 am]

BILLING CODE 4165-15-P